DEPARTMENT OF AGRICULTURE

Forest Service

Southwest Idaho Resource Advisory Committee

AGENCY: Forest Service, USDA.

ACTION: Notice of meeting.

SUMMARY: Pursuant to the authorities in the Federal Advisory Committee Act (Pub. L. 92-463) and under the Secure Rural Schools and Community Self-Determination Act of 2000, as amended, (Pub. L. 110-343), the Boise, Payette, Salmon-Challis, and Sawtooth National Forests' Southwest Idaho Resource Advisory Committee will conduct a business meeting. The meeting is open to the public.

DATES: Thursday, April 21, 2011, beginning at 9 a.m.

ADDRESSES: Idaho Counties Risk Management Program Building, 3100 South Vista Avenue, Boise, Idaho.

SUPPLEMENTARY INFORMATION: Agenda topics will include review and approval of project proposals, and is an open public forum.

FOR FURTHER INFORMATION CONTACT: Kim Pierson, Designated Federal Official, at (208) 347-0301 or e-mail kpierson@fs.fed.us.

Dated: March 24, 2011.
Suzanne C. Rainville,
Forest Supervisor, Payette National Forest.

[FR Doc. 2011-7748 Filed 3-31-11; 8:45 am]

BILLING CODE 3410-11-P